FEDERAL RESERVE SYSTEM

Change in Bank Control Notices; Acquisitions of Shares of a Savings and Loan Holding Company

The notificants listed below have applied under the Change in Bank Control Act (12 U.S.C. 1817(j)) and the Board's Regulation LL (12 CFR part 238) to acquire shares of a savings and loan holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 26, 2013.

A. Federal Reserve Bank of Dallas (E. Ann Worthy, Vice President) 2200 North Pearl Street, Dallas, Texas 75201-2272:

1. John C. Landers, Houston, Texas, individually and as co-trustee of the Brittney Reimert Family Share Trust, the Chelsea Reimert Family Share Trust, and the Jeffery Reimert Family Share Trust, all of Houston, Texas, to acquire additional voting shares of Friendswood Capital Corporation, Webster, Texas, and thereby indirectly obtain control of Texan Bank, Sugar Land, Texas.

Board of Governors of the Federal Reserve System, April 5, 2013.
Margaret McCloskey Shanks,
Deputy Secretary of the Board.

[FR Doc. 2013-08375 Filed 4-9-13; 8:45 am]

BILLING CODE 6210-01-P